DEPARTMENT OF THE INTERIOR

National Park Service

Apostle Islands National Lakeshore

AGENCY: National Park Service, Interior.

ACTION: Notice of intent to prepare a draft wilderness suitability study and draft environmental impact statement for Apostle Islands National Lakeshore, Wisconsin.

SUMMARY: The National Park Service (NPS) will prepare a wilderness suitability study to evaluate portions of Apostle Islands National Lakeshore for possible designation as wilderness, in accordance with the provisions of the Wilderness Act of 1964 and NPS Management Policies (2001). To facilitate sound analysis of environmental impacts, the NPS is gathering information necessary for the preparation of the wilderness suitability study and the associated environmental impact statement (EIS). Suggestions and information are being sought from other agencies, tribes, organizations, and the public on the scope of issues and range of alternatives to be addressed. Comments and participation in this scoping process are invited and encouraged. This notice is being furnished as required by National Environmental Policy Act regulations 40 CFR 1501.7.

A series of scoping sessions with local, county, state, and tribal governments, neighboring agencies, and the public is scheduled to be held in late July 2001. The purpose of these meetings will be to explain the wilderness suitability study process, and to provide an opportunity for governments, tribes, agencies, communities, and interested citizens to express the issues and concerns they believe the study should address. At least one public session will be held in Bayfield, Wisconsin. Notice of the dates, times, and locations of public scoping sessions will be advertised in local media outlets prior to the events. Persons wishing to receive direct mail notification of the public scoping sessions should contact the park's Management Assistant at the address or telephone number below. Up-to-date schedules, draft documents, current information regarding the wilderness suitability study and EIS, and an address for electronically transmitted comments can be found on the park's Web site at http://www.nps.gov/apis/wstudy.htm. Written comments may also be mailed to the park's Management Assistant at the address below.

ADDRESSES: General park information requests, or requests to be added to the project mailing list should be directed to: Superintendent, Apostle Islands National Lakeshore, Route 1, Box 4, Bayfield, Wisconsin 54814. Telephone: 715-779-3397. E-mail: apis_superintendent@nps.gov.

FOR FURTHER INFORMATION CONTACT: Written comments, and information concerning the scope of the EIS and other matters should be directed to: Management Assistant, Apostle Islands National Lakeshore, at the address above. Telephone: 715-779-3398 extension 102. e-mail: apis_management_assistant@nps.gov.

SUPPLEMENTARY INFORMATION: NPS Management Policies (2001) section 6.2.1 requires a wilderness suitability assessment as a prelude to a wilderness suitability study. This requirement was met by the 1989 General Management Plan (GMP) for Apostle Islands National Lakeshore. During the GMP planning process, it was determined that about 97% of the park's land base was potentially suitable for wilderness, and required further study. Since that time, in accordance with the GMP, these lands have been managed as though they were wilderness, so the conclusions of the assessment remain accurate and valid. Copies of the GMP are available at the address above.

The environmental review of the wilderness suitability study and EIS for the Lakeshore will be conducted in accordance with requirements of the NEPA (42 U.S.C. § 4371 et seq.), NEPA regulations (40 CFR 1500-1508), other appropriate Federal regulations, and National Park Service procedures and policies for compliance with those regulations.

Dated: May 14, 2001.
William W. Schenk,
Regional Director.

[FR Doc. 01-25643 Filed 10-11-01; 8:45 am]

BILLING CODE 4310-70-P